DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by October 3, 2003.

Title and OMB Number: Defense Security Service—Industrial Security Review Data and Industrial Security Facility Clearance Survey Data; OMB Number 0704-[To Be Determined].

Type of Request: New Collection.

Number of Respondents: 12,975.

Responses Per Respondent: 1.

Annual Responses: 12,975.

Average Burden Per Response: 3.2 hours (average).

Annual Burden Hours: 41,764.

Needs and Uses: Executive Order 12829, “National Industrial Security Program (NISP),” established the NISP to safeguard Federal government classified information. The Defense Security Service administers the Defense portion of the NISP and is the office of record for the maintenance of information pertaining to contractor facility clearance records and industrial security information regarding cleared contractors under its cognizance. Contractors are subject to an initial facility clearance survey and periodic government security reviews to determine their eligibility to participate in the NISP and ensure that safeguards employed are adequate for the protection of classified information. To the extent possible, information required as part of the survey or security review is obtained as a result of observation by the representative of the Cognizant Security Agency (CSA) or its designated Cognizant Security Office. Some of the information may be obtained in conference with key management personnel and/or employees of the company. The information is used to respond to all inquiries regarding the facility clearance status and storage capability of cleared contractors. It is also the basis for verifying whether contractors are appropriately implementing NISP security requirements.

Affected Public: Individuals or households; Business or other for-profit; Not-for-profit institutions; State, local or tribal government.

Frequency: On occasion; Annually.

Respondent's Obligation: Required to obtain or retain benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: August 26, 2003.
Patricia L. Toppings,
Alternate OSD Federal Register Liaison Officer, Department of Defense.

[FR Doc. 03-22402 Filed 9-2-03; 8:45 am]

BILLING CODE 5001-08-M